DEPARTMENT OF COMMERCE

International Trade Administration

[A-570-848]

Freshwater Crawfish Tail Meat From the People's Republic of China: Extension of Time Limit for Final Results of Antidumping Duty New-Shipper Reviews

AGENCY: Import Administration, International Trade Administration, Department of Commerce.

EFFECTIVE DATE: November 7, 2002.

FOR FURTHER INFORMATION CONTACT: Holly Hawkins or Thomas Gilgunn, Import Administration, International Trade Administration, U.S. Department of Commerce, 14th Street and Constitution Avenue, NW., Washington, DC 20230; telephone: (202) 482-0414 and (202) 482-4236, respectively.

The Applicable Statute

Unless otherwise indicated, all citations are to the Tariff Act of 1930, as amended (the Act). In addition, unless otherwise indicated, all citations to the Department's regulations are codified at 19 CFR part 351 (2001).

Background

On September 20, 2001, the Department of Commerce received a request from Shouzhou Huaxiang Foodstuffs, Co., Ltd. to conduct a new shipper review of the antidumping duty order on freshwater crawfish tail meat from the People's Republic of China. On September 28, 2001, the Department received a similar request from North Supreme Seafood (Zhejiang) Co., Ltd. On November 8, 2001, the Department found that the requests for review met all of the regulatory requirements set forth in section 351.214(b) of the Department's regulations and initiated these new shipper antidumping reviews covering the period September 1, 2001, through August 31, 2001. See “Freshwater Crawfish Tail Meat From the People's Republic of China: Initiation of New Shipper Antidumping Review,” 66 FR 56536 (November 8, 2001). The preliminary results were published on August 12, 2002. See “Notice of Preliminary Results of Antidumping Duty New Shipper Reviews: Freshwater Crawfish Tail Meat from the People's Republic of China,” 67 FR 52442 (August 12, 2002).

Extension of Time Limits for Final Results

Pursuant to section 751(a)(2)(B)(iv) of the Act and section 351.214(i)(2) of the Department's regulations, the Department may extend the deadline for completion of the final results of a new shipper review if it determines that the case is extraordinarily complicated. The Department has determined that this case is extraordinarily complicated, and the final results of these new shipper reviews cannot be completed within the statutory time limit of 90 days after the date on which the preliminary results were issued. The Department needs more time to analyze the issues raised in the parties' briefs with respect to valuation and the bona fides of the sales. Given these issues, the Department finds that these reviews are extraordinarily complicated. Accordingly, the Department is extending the time limit for the completion of the final results by 44 days, to December 17, 2002, in accordance with section 751(a)(2)(B)(iv) of the Act and section 351.214(i)(2) of the Department's regulations.

Dated: November 1, 2002.
Joseph A. Spetrini,
Deputy Assistant Secretary for Import Administration, Group III.

[FR Doc. 02-28342 Filed 11-6-02; 8:45 am]

BILLING CODE 3510-DS-P